DEPARTMENT OF LABOR

Office of the Secretary

Submission for OMB Review; Comment Request

December 26, 2001.

The Department of Labor (DOL) has submitted the following public information collection requests (ICRs) to the Office of Management and Budget (OMB) for review and approval in accordance with the Paperwork Reduction Act of 1995 (Pub. L. 104-13, 44 U.S.C. chapter 35). A copy of each individual ICR, with applicable supporting documentation, may be obtained by calling the Department of Labor, Ms. Marlene Howze (202) 693-4158) or by e-mail to Howze-Marlene@dol.gov.

Comments should be sent to the Office of Information and Regulatory Affairs, Attn: OMB Desk Officer for ESA, Office of Management and Budget, Room 10235, Washington, DC 20503 (202) 395-4718), within 30 days from the date of this publication in the Federal Register.

The OMB is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submission of responses.

Type of Review: Extension of a currently approved collection.

Agency: Employment Standards Administration.

Title: Worker Information—Terms and Conditions of Employment.

OMB Number: 1215-0187.

Frquency: On occasion.

Affected Public: Businesses or other for-profit; Individuals or households; Farms.

Number of Respondents: 137,000.

Estimated Time Per respondents: 32 minutes.

Total Burden Hours: 73,067.

Total Annualized capital/startup costs: $0.

Total annual costs (operating/maintaining systems or purchasing services): $29,160.

Description: The Migrant and Seasonal Agricultural Worker Protection Act requires farm labor contractors, agricultural employer and agricultural associations who recruit migrant and seasonal agricultural workers to disclose in writing the terms and conditions of employment and to provide, upon request, a written statement of such terms.

Ira L. Mills,
Departmental Clearance Officer.

[FR Doc. 02-47 Filed 1-2-02; 8:45 am]

BILLING CODE 4510-27-M